DEPARTMENT OF EDUCATION

[CFDA No.: 84.351C]

Office of Innovation and Improvement—Professional Development for Arts Educators; Notice Inviting Applications for New Awards for Fiscal Year (FY) 2003; Correction

On May 16, 2003, a notice inviting applications for new awards for Professional Development for Arts Educators was published in the Federal Register (68 FR 26951). On page 26954, second column, first line, the telephone number is corrected to read “(202) 260-1990.”

FOR FURTHER INFORMATION CONTACT: Lynyetta Johnson, U.S. Department of Education, 400 Maryland Avenue, SW., room 3E206 FB-6, Washington, DC 20202-6140. Telephone: (202) 260-1990 or via Internet: lynyetta.johnson@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access To This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7271.

Dated: May 23, 2003.
Nina Rees,
Deputy Under Secretary for Innovation and Improvement.

[FR Doc. 03-13463 Filed 5-28-03; 8:45 am]

BILLING CODE 4000-01-P